DEPARTMENT OF LABOR

Bureau of Labor Statistics

Business Research Advisory Council; Notice of Meetings and Agenda

The regular Fall meetings of the Business Research Advisory Council and its committees will be held on October 20 and 21, 2004. All of the meetings will be held in the Conference Center of the Postal Square Building, 2 Massachusetts Avenue, NE., Washington, DC.

The Business Research Advisory Council and its committees advise the Bureau of Labor Statistics with respect to technical matters associated with the Bureau's program. Membership consists of technical officials from American business and industry.

The schedule and agenda for the meetings are as follows:

Wednesday—October 20 (Conference rooms 1 & 2)

10-11:30 a.m.—Committee on Employment and Unemployment Statistics

1. Report on the first American Time Use Survey (ATUS) release (issued on September 14).

2. Business Employment Dynamics (BED) data by employer size: discussion of alternative methods for assigning employers to size categories.

3. Discussion of proposed macroeconomic assumptions for the 2014 round of BLS employment projections.

4. Discussion of major changes to the modeling methods used to develop Local Area Unemployment Statistics data.

5. Discussion of agenda items for the Spring 2005 meeting.

1-2:30 p.m.—Committee on Compensation and Working Conditions

1. New Statistics for Health Insurance from the National Compensation Survey.

2. Presentation and discussion of the National Compensation Survey's Internet Collection Vehicle.

3. Electronic collection of compensation data in the National Compensation Survey (e-mail and import functions).

4. Other topics and new business identified by the members.

5. Discussion of agenda items for the Spring 2005 meeting.

3-4:30 p.m.—Committee on Occupational Safety and Health

1. Results of 2003 Census of Fatal Occupational Injuries, including latest data on foreign-born workers.

2. Progress on 2003 Survey of Occupational Injuries and Illnesses.

3. Time of event data from the 2002 Survey of Occupational Injuries and Illnesses.

4. Status of special survey on employer workplace violence prevention policies.

5. Budget update.

6. New business.

7. Discussion of agenda items for the Spring 2005 meeting.

Thursday—October 21 (Conference rooms 1 & 2)

8:30-10 a.m.—Committee on Prices Indexes

1. Non-response rates in establishment surveys—the PPI and IPP.

2. Update on the Conference on Price Index Concepts and Measurement.

3. Discussion of agenda items for the Spring 2005 meeting.

10:30 a.m.-12 p.m.—Council Meeting

1. Commissioner's address.

2. Discussion of agenda items for the Spring 2005 meeting.

1:30-3 p.m.—Committee on Productivity and Foreign Labor Statistics

1. The effects of IT investments on productivity growth.

2. Research on preliminary estimates of multifactor productivity growth for the business sector.

3. Country expansion for comparative productivity data.

4. Discussion of agenda items for the Spring 2005 meeting.

The meetings are open to the public. Persons wishing to attend these meetings as observers should contact Tracy A. Jack, Liaison, Business Research Advisory Council, at (202) 691-5869.

Signed at Washington, DC the 4th day of October 2004.
Kathleen P. Utgoff,
Commissioner.

[FR Doc. 04-22683 Filed 10-7-04; 8:45 am]

BILLING CODE 4510-24-P